DEPARTMENT OF THE INTERIOR

Fish and Wildlife Service

Availability of an Amended Environmental Assessment and Receipt of an Application for Renewal and Amendment of an Incidental Take Permit for Beach Driving and Related Activities, in Volusia County, FL

AGENCY: Fish and Wildlife Service, Interior.

ACTION: Notice.

SUMMARY: The County of Volusia (Applicant) seeks to renew and amend incidental take permit (ITP) TE811813. The Fish and Wildlife Service (Service) issued this ITP on November 22, 1996, pursuant to section 10(a)(1)(B) of the Endangered Species Act of 1973 (Act), as amended. The ITP authorizes take of loggerhead (Caretta caretta), green (Chelonia mydas), leatherback (Dermochelys coriacea), Kemp's ridley (Lepidochelys kempii), and hawksbill (Eretmochelys imbricata) sea turtles incidental to the Applicant's regulation of vehicular traffic on 35.6 linear miles of beaches under its jurisdiction in Volusia County, Florida. Among the proposed amendments to the ITP, the Applicant requests incidental take authority for the piping plover (Charadrius melodus).

The mitigation and minimization measures outlined in the Applicant's amended Habitat Conservation Plan (HCP) to address the effects of vehicle beach access and related activities on federally listed species are described further in the SUPPLEMENTARY INFORMATION section below. The Service announces the availability of the HCP and our Environmental Assessment (EA) for the incidental take renewal and amendment application. Copies of the HCP and EA may be obtained by making a request to the Regional Office (see ADDRESSES). Requests must be in writing to be processed. This notice is provided pursuant to section 10 of the Endangered Species Act and NEPA regulations (40 CFR 1506.6).

DATES: Written comments on the permit application, supporting documentation, EA and HCP should be sent to the Service's Regional Office (see ADDRESSES) and should be received on or before April 26, 2005.

ADDRESSES: Persons wishing to review the application, HCP, and EA may obtain copies by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, 6620 Southpoint Drive South, Suite 310, Jacksonville, Florida 32216-0912. Written data or comments concerning the application, supporting documentation, EA, or HCP should be submitted to the Regional Office. Requests for the documentation must be in writing to be processed. Comments must be submitted in writing to be adequately considered in the Service's decision-making process. Please reference permit number TE811813 in such comments, or in requests for the documents discussed herein.

FOR FURTHER INFORMATION CONTACT: Mr. David Dell, Regional Permit Coordinator, (see ADDRESSES above), telephone: 404/679-7313; or Mr. Michael Jennings, Fish and Wildlife Biologist, Jacksonville Field Office, (see ADDRESSES above), telephone: 904/232-2580, extension 113.

SUPPLEMENTARY INFORMATION: If you wish to comment, you may submit comments by any one of several methods. Please reference permit number TE811813 in such comments. You may mail comments to the Service's Regional Office (see ADDRESSES). You may also comment via the Internet to david_dell@fws.gov. Please submit comments over the Internet as an ASCII file avoiding the use of special characters and any form of encryption. Please also include your name and return address in your internet message. If you do not receive a confirmation from the Service that we have received your internet message, contact us directly at either of the telephone numbers listed below (see FOR FURTHER INFORMATION CONTACT). Finally, you may hand deliver comments to either of the Service offices listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Piping plovers are small, migratory shorebirds that breed in central and eastern Canada and the Great Plains and eastern United States. They are typically found on low energy coastal beaches, river sandbars, and sparsely vegetated lake shorelines where they feed on a variety of invertebrates under the soil surface. The breeding season begins with the arrival of mature birds as early as mid-March and fledging of young can last through July. At the conclusion of the breeding season, piping plovers migrate to wintering areas that include south Atlantic, Gulf coast, and Caribbean beaches. Numbers of piping plovers are estimated periodically based on surveys conducted within three geographically broad breeding areas: Atlantic Coast, Northern Great Plains, and Great Lakes populations. Recent surveys indicate that the numbers of plovers in the Northern Great Plains breeding population are in decline. Within the Great Lakes population, numbers are low and have not substantially changed since the bird was placed on the endangered species list. Overall, numbers of plovers in the Atlantic Coast breeding population are increasing, but decreases have been noted in several localities within this population.

Sea turtles spend the majority of their lives in the sea, and most can be found in warm tropical and subtropical waters. The leatherback is an exception, traveling as far north as Labrador, Canada, and Alaska and as far south as the Cape of Good Hope in Africa and southern New Zealand. Adult green sea turtles are herbivores, while all other sea turtles are carnivores. During the nesting season, which in the continental United States occurs between March and October, adult female sea turtles come ashore to lay their eggs. Females excavate pits using their front and rear flippers where they lay 50 to 160 eggs about the size of a ping-pong ball. The pits are then covered by sand and the females return to the sea. Eggs incubate for about 50 to 70 days. Upon hatching, young sea turtles make their way up through the sand and immediately travel to the ocean. The most recent report to the United States Congress lists the status of sea turtles as follows: Kemp's ridley and green sea turtles populations are increasing, hawksbill and leatherback sea turtle populations are declining, and the status of the loggerhead sea turtle population is uncertain.

The original ITP authorized take of loggerhead, green, leatherback, Kemp's ridley, and hawksbill sea turtles in Volusia County, Florida, for a period of five (5) years. The Applicant proposes to renew the ITP, with modifications, for a period of twenty-five (25) years. In this renewal, the Applicant also requests incidental take of piping plovers. The proposed taking of these federally listed species is incidental to otherwise legal vehicular access, and access related activities, on the beaches of Volusia County, pursuant to Volusia Home Rule Charter (Section 205, Laws of Florida Special Acts, Chapter 70-966, as amended). The beaches under the jurisdiction of the Applicant encompass 35.6 linear miles.

The Service issued the original ITP on November 22, 1996, pursuant to section 10(a)(1)(B) of the Act. The original ITP has been administratively amended or modified ten times since the original issuance date. The Applicant notified the Service on October 19, 2001, of its desire to renew the existing ITP, but the Service was unable to take final action on the Applicant's renewal request prior to the expiration date of the original ITP, which was on December 31, 2001. Therefore, pursuant to 50 CFR 13.22(c), the Applicant has continued activities previously permitted under the original ITP, as amended and modified, while the Service considers and reviews the renewal request. This public notice is a required part of the Service's review of the renewal request.

The Applicant seeks renewal of its ITP to authorize take of loggerhead, green, leatherback, Kemp's ridley, and hawksbill sea turtles. Although not covered by the original ITP, the Applicant has requested authorization to take piping plovers. In its previous HCP, the Applicant determined, and the Service concurred, that piping plovers likely would not be taken incidentally to the authorized activities. Therefore, authorization to take piping plovers was not requested at that time. Since submission of the original HCP and issuance of the ITP, however, critical habitat for the piping plover has been designated in the vicinity of Ponce de Leon Inlet, Volusia County. Portions of piping plover designated critical habitat fall within beach areas the County has proposed be accessible to vehicular traffic. Southeastern beach mice (Peromyscus polionotus niveiventris) have also been found in one additional area of coastal Volusia County since submission of the original HCP and issuance of the ITP. The Applicant has determined, however, that ongoing and planned future actions related to vehicular beach access and access related activities as specified in the revised HCP are not expected to take southeastern beach mice. Consequently, authorization for take of this species has not been requested.

In its original ITP application and HCP, the Applicant identified five general beach driving activities that could lead to take of sea turtles. These actions included: (1) Public safety operations, such as those provided by lifeguards, emergency vehicles, and law enforcement vehicles; (2) public vehicular access, including the potential for shuttle service in certain areas; (3) routine beach maintenance and sanitation; (4) access ramp maintenance; and (5) access for concessionaires, including motorized rental vehicles such as all-terrain vehicles and golf carts.

In addition to the beach driving activities addressed in the original HCP, the Applicant has identified other beach access activities under the control of Volusia County that were not addressed in the original HCP that may result in take of sea turtles and piping plovers. These activities include: (1) Actions necessary to implement the terms and conditions of the ITP; (2) planned coastal construction projects properly permitted by local, State, and/or Federal regulatory agencies, such as seawall repair, beach nourishment, dune restoration, and removal of windblown sand, where no reasonable upland alternative exists; (3) additional scientific monitoring and studies; (4) emergency shoreline protection projects properly permitted by local, State, and/or Federal regulatory agencies; (5) non-routine beach maintenance and sanitation, such as removal of hazardous materials, removal of storm-generated debris and/or obstacles that pose a public health or safety risk, and other atypical circumstances requiring beach access (e.g., boat groundings, downed aircraft, etc.); and (6) routine beach cleaning.

Other substantive changes to the original HCP that are currently proposed by the Applicant include: (1) A reduction in the amount and type of biological data to be collected for monitoring; (2) a 200-foot expansion of public beach driving in the existing HCP Region 3 Transitional Beach Driving Area; (3) the removal of the light management program as a formal component of HCP mitigation; (4) the addition of funding and operation of a sea turtle rehabilitation facility as a formal component of HCP mitigation; (5) the implementation of an expanded county-wide sea turtle public awareness and education program; (6) the construction and operation of a sea bird rehabilitation facility at the Marine Science Center in the vicinity of Ponce de Leon Inlet; (7) the implementation of annual piping plover surveys within designated critical habitat; and (8) the restoration of 400 linear feet of dune habitat.

Except for the changes identified above, the Applicant proposes to continue implementation of all minimization and mitigation measures outlined in the original HCP. Generally, these measures include: (1) Year-round closure of 18.92 miles of beach to public vehicular access; (2) establishment of a year-round 30-foot conservation zone (i.e., no public vehicle entry) and daytime only driving on 11.65 miles of beach; (3) establishment of a year-round 15-foot conservation zone and daytime only driving on 5.04 miles of beach; (4) annual training of County beach management staff; (5) implementation of a public education program; and (6) implementation of a vehicle rut removal program.

The Service has made a preliminary determination that renewal of the ITP is not a major Federal action significantly affecting the quality of the human environment within the meaning of section 102(2)(C) of NEPA. This preliminary information may be revised due to public comment received in response to this notice and is based on information contained in the EA and HCP.

The Service will evaluate the HCP and comments submitted thereon to determine whether the application meets the issuance criteria requirements of section 10(a)(1)(B) of the Act. By conducting an intra-Service section 7 consultation the Service will also evaluate whether issuance of the section 10(a)(1)(B) ITP would comply with section 7 of the Act. The results of this consultation, in combination with the above findings, will be used in the final analysis to determine whether or not to issue the ITP for the five species of sea turtle and the piping plover.

Dated: January 31, 2005.
Cynthia K. Dohner,
Acting Regional Director, Southeast Region.

[FR Doc. 05-3647 Filed 2-24-05; 8:45 am]

BILLING CODE 4310-55-P